DEPARTMENT OF THE INTERIOR

National Park Service

[NPS-WASO-NAGPRA-NPS0039838; PPWOCRADN0-PCU00RP14.R50000]

Notice of Inventory Completion: University of California, Riverside, Riverside, CA

AGENCY: National Park Service, Interior.

ACTION: Notice.

SUMMARY: In accordance with the Native American Graves Protection and Repatriation Act (NAGPRA), the University of California, Riverside has completed an inventory of human remains and associated funerary objects and has determined that there is a cultural affiliation between the human remains and associated funerary objects and Indian Tribes or Native Hawaiian organizations in this notice.

DATES: Repatriation of the human remains and associated funerary objects in this notice may occur on or after May 5, 2025.

ADDRESSES: Megan Murphy, University of California, Riverside, 900 University Avenue, Riverside, CA 92517-5900, telephone (951) 827-6349, email megan.murphy@ucr.edu.

SUPPLEMENTARY INFORMATION: This notice is published as part of the National Park Service's administrative responsibilities under NAGPRA. The determinations in this notice are the sole responsibility of the University of California, Riverside, and additional information on the determinations in this notice, including the results of consultation, can be found in the inventory or related records. The National Park Service is not responsible for the determinations in this notice.

Abstract of Information Available

Based on the information available, human remains representing, at least, one individual have been reasonably identified. The 11 associated funerary objects are one lot of grinding stones, one lot of lithic materials, one lot of ceramics, one lot of shell beads and ornaments, one lot of modified bone, one lot of faunal bone, one lot of botanical materials, one stone sucking tube, one lot of ochre, one lot of asphaltum, and one lot of soil samples. In 1984, the University of California, Riverside Archaeological Research Unit (UCRARU) was contracted by the Riverside County Flood Control and Water Conservation District to investigate four proposed flood control projects near Wildomar in southwest Riverside county. The project, ARU #768, “Excavations at Wildomar, Riverside County, California”, was led by Daniel McCarthy and Philip Wilke. A total of 28 units measuring 1 x 1.5 m were excavated by a crew of nine archaeologists at archaeological site CA-RIV-2769. Archaeologists described the site as a camp site rather than a village site because some year-round activities were not represented by material culture. This area is well-known to the Luiseno tribes as Páa∫uku. The assemblage of material culture excavated during the project represented a span of time from A.D. 1000 to historic times according to archaeologists. Cremated human remains were also identified during excavation and were returned to the Pechanga Band of Indians in April of 1985, however, the tribe's request to have entire collection returned was denied by the UCRARU. The materials were subsequently housed at the University of California, Riverside under accession number 32. During consultation with tribal representatives in 2024, additional human remains previously misidentified as faunal remains were identified.

Based on the information available, human remains representing, at least, one individual have been reasonably identified. The 12 associated funerary objects are two lots of grinding stones, one lot of lithic objects, two lots of ceramic sherds, two lots of glass objects, two lots of faunal remains, one bone awl, one steatite pendant fragment, and one lot of stone with red ochre. In 1971, Archaeological Research Inc. (ARI) was contracted by Dr. Thomas King, a graduate student at the University of California, Riverside and a representative for the Highway Salvage Committee for District 8, to investigate potential impacts to archaeological site CA-RIV-365 before the extension of Highway 365. The site was first excavated by B.E. McCowan in 1955, along with surrounding sites include CA-RIV-4, CA-RIV-270, and CA-RIV-523. During these first excavations, burials, bedrock mortars, and cultural objects were removed. The site is part of the Luiseno ancestral village of `Éxva Teméku. Knowing that the area presented a strong potential for cultural materials and human remains to be disturbed, ARI conducted the excavation as requested by Dr. King in July of 1971. Archaeologists recovered approximately 800 objects as well as uncatalogued bone fragments, which were subsequently housed at the University of California, Riverside under accession number 33. During tribal consultation in 2024, human remains representing at least one Native American individual were identified. Approximately 189 objects were found to be missing from the collection when checked against the catalogs including a bone awl, one lot of faunal remains, one lot of grinding stones, one steatite pendant fragment, one lot of stone with red ochre, one lot of sherds, and one lot of historic glass. If any of these objects are located after repatriation occurs, they will be transferred to the tribe as part of this repatriation.

Based on the information available, human remains representing, at least, one individual have been reasonably identified. The 13 associated funerary objects are one lot of projectile points and other lithic materials, one lot of potsherds, one lot of faunal remains, one lot of manos and metates, one lot of botanical material, one lot of charcoal, one lot of shell beads, one lot of steatite beads, one lot of quartz, one lot of ochre, one lot of geological samples, one lot of clay objects, and one lot of glass objects. In the spring of 1974, a field class in archaeology from the University of California, Riverside conducted an archaeological survey and excavation for an area to be impacted by a proposed realignment of Jefferson Avenue in Temecula. Under the supervision of Richard Ambro and Leslie Wildesen, 12 units measuring 6 x 6 m were excavated at archaeological site CA-RIV-644. A total of 2,419 objects were removed from the site and were housed at UCR under accession number 37. ARU Report #120, “Excavations at Jefferson Avenue” by Sarah Schlanger, was published detailing the project findings. Prior to the UCR 1974 excavation, site records reported that a burial was recovered by public employees when it washed out of a nearby creek bank. During tribal consultation in 2024, human remains were found in the collection which had been previously misidentified as faunal remains. The site is close to the Pechanga Reservation and is known to the tribe as Múutul. During catalog verification in 2024 with tribal representatives, a significant number objects were not accounted for. If they are located at a later date they will be returned to the Tribe as part of this repatriation.

Based on the information available, human remains representing, at least, one individual have been reasonably identified. The 11 associated funerary objects are one lot of animal bone, one lot of modified animal bone, one lot of potsherds, one lot of clay objects, one lot of glass, one lot of lithics, one lot of metal, one lot of shell beads, one lot of botanical materials, one lot of charcoal, and one lot of grinding-stones. In 1976, an archaeological field school was conducted by the University of California, Riverside on private property in the vicinity of the Lake Perris Reservoir as part of the Rock Art Study of Lake Perris Reservoir Area for the California Department of Parks and Recreation. The Bernasconi Site, CA-RIV-858 (part of CA-RIV-111) is described as a village site with midden and bedrock grinding features and cupules in site records; it is part of Luiseno ancestral lands and is known to them as Táakwi∫ Pukí'. No analysis of the collection after excavation was published and it was housed at UCR under accession number 43. One possible human incisor was noted in original catalogs, but no tribal consultation was ever conducted. During tribal consultation in 2024, other human teeth and bone fragments were identified by tribal representatives. During catalog verification a number of objects were not accounted for; if they are located at a later date they will be returned to the Tribe as part of this repatriation.

Based on the information available, human remains representing, at least, one individual have been reasonably identified. The four associated funerary objects are one lot of shell fragments, one lot of ceramics, one lot of grinding stones, and one lot of lithic materials. In May of 1978, the University of California, Riverside Archaeological Research Unit (UCR-ARU) was contracted by a private investment group to conduct an archaeological assessment of a parcel of land ahead of a proposed residential development. The project was led by Stephen Bouscaren of the UCR-ARU. According ARU report #333, “An Archaeological Assessment of Tentative Parcel No. 12065, south of Walker Basin, Riverside County, California” several bedrock mortars were found during the investigation and archaeologists described the site, archaeological site CA-RIV-1316, as a plant processing site. Items removed during the excavation included shell fragments, ceramics, grinding stones, lithic materials (flakes, projectile points, scrapers, etc.). The collection was subsequently housed as UCR as accession number 55 and no further analysis was conducted to determine if the remains were human. During tribal consultation in 2024, tribal representatives confirmed that the bone fragments were human and identified the objects in the collection as being associated funerary objects. Burials have been uncovered since this project as reported by tribal representatives during consultation and reburials have been undertaken by the Pechanga Band of Indians in this area.

Based on the information available, human remains representing, at least, one individual have been reasonably identified. The two associated funerary objects are one lot of lithics and one lot of grinding stones. In 1977, the University of California, Riverside Archaeological Research Unit (UCRARU) was contracted to conduct archaeological assessment and mitigation for a proposed subdivision project. The project, assigned ARU #263 and #275, was led by Phillip Wilke and Eugene Anderson and consisted of a surface survey and collection and followed by the excavation of three test units at archaeological site CA-RIV-1241 (the Fiandaca Site). No subsurface features were uncovered during the excavation of the test units. The collection was housed at the University of California, Riverside under accession number 57. Based on these materials, archaeologists estimated the occupation of the site to be around 5,000-6,000 years ago; this area is part of the Luiseno Tribes' ancestral homelands and is known to them as Qaxáalku. During consultation with tribal representatives in 2024, human remains, previously misidentified as faunal, were identified in the collection.

Based on the information available, human remains representing, at least, one individual have been reasonably identified. The two lots of associated funerary objects are one lot of lithics and one lot of botanical materials. In 1979, the University of California, Riverside Archaeological Research Unit (UCRARU) was contracted to review a parcel of land about a mile southwest of Norco High School ahead of the construction of a proposed subdivision project. Archaeological site CA-RIV-1443 had been located in previous projects and was relocated during this project. This site is part of ancestral Luiseno homelands and is known to them as Náqwu. The project was led by Thomas Holcomb and consisted of a surface survey and collection followed by the excavation of three test units. No subsurface features were discovered during excavation. Archaeologists recorded the site as a “seed-processing/occupation site” in ARU Report #429, “An Archaeological Assessment of the Norco Hills Proposed Subdivision Near Norco, California” by Christopher Drover. Bone fragments found during the excavation were identified as faunal, but during tribal consultation in 2024 they were determined to be human remains.

Based on the information available, human remains representing, at least, one individual have been reasonably identified. The four associated funerary objects are one lot of lithic materials, one lot of faunal remains, one lot of bone awls and one lot of grinding stones. In 1978, the University of California, Riverside Archaeological Research Unit (UCR-ARU) was contracted to conduct an archaeological assessment on 40 acres of land that were being developed into residential buildings. Archaeological site CA-RIV-1008 was already known to have been located on the subject property and was described as consisting of midden, grinding stones, a pictograph, bedrock mortars, and grinding slicks. The site had been previously described by Robert Bettinger in 1972 as a “large midden site, probably a temporary camp”. This site is well-known to the Luiseno tribes as Tótpa and is part of their ancestral homelands. During the project archaeologists conducted a surface collection and excavated three units. The materials removed from the site were housed at the University of California, Riverside under accession number 68. Burned bone fragments were collected by archaeologists during the project but were misidentified as faunal remains. Old accession records noted the possibility of human remains in the collection, but there was no apparent follow-up by an osteologist. The project was described in ARU Report #309, “Environmental Impact Evaluation: Archaeological Assessment of Parcel Map 11758, Murrieta, Riverside County, California” by James Baldwin and Thomas Holcomb. In 2024, during NAGPRA consultation, one burnt bone fragment was determined to be human and cultural materials were also identified as being associated funerary objects. Tribal representatives stated that CA-RIV-1008 was known to them as a site with burials after recent development in the area uncovered additional burials.

Based on the information available, human remains representing, at least, one individual have been reasonably identified. The 13 associated funerary objects are one lot of faunal remains, one lot of ceramics, one lot of glass, one lot of lithics, one lot of metal, one lot of rubber, one lot of wood, one lot of fabric, one lot of floral materials, one lot of geological materials, one lot of mineralogical objects, one lot of unmodified shell, and one lot of fire-altered rock. In 1981, Alber A. Webb Associates was contracted to complete a test excavation of archaeological site CA-RIV-364, which was part of the Rancho Pauba-Little Temecula Land Grant. The site was located on the southern bank of Temecula Creek near the historic Vail Ranch and has been called “Old Temecula” and “Rancho California Site no. 1”. The Luiseno Tribes know this village as Temét Karí'a and it is an important part of their ancestral homelands. The project consisted of the excavation of approximately fifty 1 x 2 m units and the removal of over 9,000 items. After laboratory analysis, the collection was transferred to the University of California, Riverside where it was housed as accession number 78. Archaeologists described the site as ranging from a late prehistoric to historic living site with a possible adobe structure. During consultation with tribal representatives in 2024, human remains were identified in the collection which had previously been misidentified as faunal remains.

Based on the information available five associated funerary objects have been identified. The five associated funerary objects are charcoal. In 1984, Jean Salpas Keller and Daniel McCarthy excavated archaeological site CA-RIV-1139 by request of Atlantic Richfield Corporation (ARCO). In total, 30 units measuring an average of 1 x 1 m were excavated to an average depth of 50 cm. According to Keller's report, “Data Recovery at the Cole Canyon Site (CA-RIV-1139) Riverside County, California”, a representative of the Pechanga Indian Reservation was contacted about monitoring the project but “due to a misunderstanding of the request for participation, no representative was sent to the project”. It is unclear what the misunderstanding was and why the project continued without a tribal monitor. Features reported at the site included bedrock mortars, rock art, and several hearths. Other items removed from the site were projectile points and other lithic materials, manos and metates, clay figurines, pipe fragments, shell beads, glass beads, slate pendant fragments, ocher, worked steatite, a piece of incised slate, bone awls, a bone ornament fragment, a bone tube, an elk antler wedge, turtle shell rattles, unmodified faunal remains, botanical remains, and charcoal. In Unit 20 a human burial was uncovered, work was halted, and the Pechanga Band of Indians was notified. The individual uncovered was believed to be a young adult woman, about 18 years old. The burial was reportedly removed and reinterred in the reservation cemetery. The representative from the Pechanga Band of Indians stated that after viewing the objects and site that they felt that is was likely a stopping place for people going over the mountains to the ocean and back. The collection of objects removed from the site was given the UCR accession number 81, but is no longer present in UCR's collections. Original accession records state that the collection was returned to Jean Salpas Keller. In 2024, Keller informed the UCR Repatriation Coordinator that after the excavation and analysis she returned the objects to Pechanga and they were reportedly reburied on the reservation. However, five charcoal samples were submitted to the UCR Radiocarbon laboratory for dating and were assigned lab numbers UCR-2038 through UCR-2042. These samples were not returned to the tribe and were discovered by the UCR NAGPRA Program in 2024. They produced dates ranging from A.D. 870 to A.D. 1800. Tribal representatives determined that they are associated funerary objects given the nature of the site and the association with a human burial.

Based on the information available, human remains representing, at least, one individual have been reasonably identified. The nine associated funerary objects are two lots of lithic materials, two lots of faunal remains, one lot of metal objects, one lot of fire-altered rock, one lot of ground stone, one lot of pottery sherds, and one lot of quartz crystals. In 1987, archaeological sites CA-RIV-634 and CA-RIV-340 were excavated by the University of California, Riverside's Archaeological Research Unit (UCR-ARU) led by Stephen Bouscaren, Daniel McCarthy, and Phil Wilke as part of ARU project numbers 879 and 881. UCR has conducted at least four archaeological investigations in the vicinity of the “Christensen-Webb Site” also known as Táawila (Ringing Rock), which is part of a larger ancestral Luiseno village complex. The Ringing Rock sites excavated by UCR are CA-RIV-332, CA-RIV-333, CA-RIV-340, and CA-RIV-634, which are all loci of the larger village site. UCR has published notices of inventory completion for collections from CA-RIV-332 and CA-RIV-333 which house human remains, associated funerary objects, and objects of cultural patrimony. The purpose of the projects was to determine site boundaries and evaluate eligibility for the National Register of Historic Places. Eight units measuring 1 x 1.5 meters were excavated from CA-RIV-634 and 757 objects were removed from the site including lithic materials, ground stone, faunal remains, pottery sherds, and quartz crystals, which were housed at UCR as accession number 110. During consultation in 2024 human remains were identified after previously being misidentified by the project archaeologists as faunal. Three test units measuring 1 x 1.5 meters were excavated from CA-RIV-340 and a total of 468 items were removed including lithic materials, metal objects, faunal remains, and fire-altered rock and were housed at UCR under accession number 127. During consultation the objects from CA-RIV-340 were identified by tribal representatives as associated funerary objects.

Based on the information available eight associated funerary objects have been identified and are one lot of faunal remains, one lot of ceramics, one lot of glass, one lot of lithics, one lot of metal objects, one lot of floral materials, one lot of grinding stones, and one lot of unmodified shell. In 1986, the University of California, Riverside Archaeological Research Unit (UCR-ARU) was contracted to conduct test excavations in the area proposed by the Elsinore Valley Municipal Water District for the right-of-way of an outflow channel from Lake Elsinore. Older residents of the area reported to archaeologists that human remains had been disturbed during past construction projects and other artifacts were known to have been removed by pothunters in the 1940s. The Luiseno Tribes know the Lake Elsinore area as 'Iténgvu Wumówmu and it is part of their ancestral homelands Archaeologists excavated six test units measuring 1 x 2 meters and eighteen backhoe trenches measuring 6 meters in length. During the project archaeologists recovered a total of 2,436 items including an incised stone, a bone awl, lithic materials, grinding stones, and faunal remains, which were stored at UCR under accession number 118. During tribal consultation in 2024, tribal representatives confirmed that the site is a known burial ground for their ancestors.

Cultural Affiliation

Based on the information available and the results of consultation, cultural affiliation is clearly identified by the information available about the human remains and associated funerary objects described in this notice.

Determinations

The University of California, Riverside has determined that:

• The human remains described in this notice represent the physical remains of 10 individuals of Native American ancestry.

• The 94 objects described in this notice are reasonably believed to have been placed intentionally with or near individual human remains at the time of death or later as part of the death rite or ceremony.

• There is a reasonable connection between the human remains and associated funerary objects described in this notice and the Pechanga Band of Indians (previously listed as Pechanga Band of Luiseno Mission Indians of the Pechanga Reservation, California).

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after May 5, 2025. If competing requests for repatriation are received, the University of California, Riverside must determine the most appropriate requestor prior to repatriation. Requests for joint repatriation of the human remains and associated funerary objects are considered a single request and not competing requests. The University of California, Riverside is responsible for sending a copy of this notice to the Indian Tribes and Native Hawaiian organizations identified in this notice.

Authority: Native American Graves Protection and Repatriation Act, 25 U.S.C. 3003, and the implementing regulations, 43 CFR 10.10.

Dated: March 26, 2025.
Melanie O'Brien,
Manager, National NAGPRA Program.

[FR Doc. 2025-05811 Filed 4-3-25; 8:45 am]

BILLING CODE 4312-52-P